ENVIRONMENTAL PROTECTION AGENCY

40 CFR Part 52

[FRL-8022-1]

Approval and Promulgation of Air Quality Implementation Plans; Arkansas Update to Materials Incorporated by Reference

AGENCY: Environmental Protection Agency (EPA).

ACTION: Final rule; Notice of administrative change.

SUMMARY: EPA is updating the materials submitted by the State of Arkansas that are incorporated by reference (IBR) into the State Implementation Plan (SIP). The regulations affected by this update have been previously submitted by Arkansas and approved by EPA. This update affects the SIP materials that are available for public inspection at the National Archives and Records Administration (NARA), the Air and Radiation Docket and Information Center located at EPA Headquarters in Washington, DC, and the EPA Regional Office.

DATES: This rule is effective on March 16, 2006.

ADDRESSES: SIP materials incorporated by reference into 40 CFR part 52 are available for inspection at the following locations: Environmental Protection Agency, Region 6, 1445 Ross Avenue, Suite 700, Dallas, Texas 75202-2733; the EPA, Air and Radiation Docket and Information Center, Air Docket (Mail Code 6102T), 1200 Pennsylvania Avenue, NW., Washington, DC 20460, and the National Archives and Records Administration (NARA). For information on the availability of this material at NARA, call 202-741-6030, or go to: http://www.archives.gov/federal_register/code_of_federal_regulations/ibr_locations.html.

FOR FURTHER INFORMATION CONTACT: Carl Young, Air Planning Section (6PD-L), Environmental Protection Agency, Region 6, 1445 Ross Avenue, Suite 700, Dallas, Texas 75202-2733, telephone 214-665-6645; fax number 214-665-7263, e-mail address young.carl@epa.gov.

SUPPLEMENTARY INFORMATION: Each State has an extensive SIP containing the control measures and strategies—such as air pollution control regulations, emission inventories, monitoring networks, attainment demonstrations, and enforcement mechanisms—used to attain and maintain the national ambient air quality standards (NAAQS).

Each State must formally adopt the control measures and strategies after the public has had an opportunity to comment on them and then must submit them to EPA for approval. Once these control measures and strategies are approved by EPA, after notice and comment, they are incorporated into the federally approved SIP and are identified in part 52, “Approval and Promulgation of Implementation Plans”, Title 40 of the Code of Federal Regulations (40 CFR part 52). The full texts of a State's control measures and strategies approved by EPA are not reproduced in their entirety in 40 CFR part 52, but are “incorporated by reference.” This means that EPA has approved the identified State control measures and strategies, each with a specific effective date. The public is referred to the locations of the full text versions should they want to know which measures are contained in a given SIP. The information provided in 40 CFR part 52 allows EPA and the public to monitor a State's progress in implementing its SIP (and thus in attaining and maintaining the NAAQS) and to take enforcement action if necessary.

The SIP is a living document that the State can revise as necessary to address the unique air pollution problems in the State. Therefore, to incorporate the State's revisions into the federally approved SIP, EPA from time to time must take action on SIP revisions containing new and/or revised measures. On May 22, 1997. (62 FR 27968), EPA revised the procedures for incorporating by reference federally approved SIPs into the Code of Federal Regulations. These procedural revisions changed the format for the identification of a SIP in 40 CFR part 52, revised the mechanisms for announcing EPA approval of revisions to an applicable SIP, and revised the mechanisms for EPA's updating of both the IBR document (or SIP compilation) and the CFR. The SIP compilations contain the full text of the federally approved materials (including regulations, source-specific permits, and nonregulatory provisions and quasi-regulatory measures) submitted by each State agency, whereas the “Identification of plan” sections in 40 CFR part 52 merely identify the submitted materials incorporated by reference into the applicable SIP. Under the revised IBR procedures, EPA periodically publishes an informational document in the rules section of the Federal Register when updates are made to a State's SIP compilation. EPA's 1997 revised IBR procedures were formally applied to Arkansas on October 23, 1998 (63 FR 56824).

This action notifies the public of an update to the Arkansas SIP compilation, available for public inspection at the locations listed in the Addresses section of this Federal Register notice, and updates the Arkansas “Identification of plan” section, appearing in 40 CFR part 52 (subpart E). The Arkansas SIP compilation, which consists of submitted materials incorporated by reference into the Arkansas SIP, is being updated to include EPA-approved revisions to Arkansas' SIP that have occurred since EPA's revised IBR procedures were applied to Arkansas on October 23, 1998 (63 FR 56824); specifically, the SIP compilation update includes revisions to Arkansas Regulation 19, Regulations of the Arkansas Plan of Implementation for Air Pollution Control, which we approved on October 16, 2000 (65 FR 61103), and revisions to Arkansas Regulation 26, Regulations of the Arkansas Operating Permit Program, which we approved on October 9, 2001 (66 FR 51312). These revisions have previously undergone notice and comment rulemaking and are, therefore, already in effect as a matter of law; thus this SIP compilation update does not affect the substance of those rulemaking actions nor does it change the rights or obligations of any party.

The update to the Arkansas “Identification of plan” section (40 CFR 52.170) is twofold: First, we are making changes in § 52.170(b) to update the description of materials incorporated by reference and the location where the full text of those materials may be viewed for public inspection; and, second, we are making six ministerial corrections to the tables in § 52.170(c) and (e). The corrections to the tables include the following: (1) All Federal Register citations in the tables in § 52.170 are revised to cite the first page of the Federal Register action rather than the page of that action on which the amendatory language begins because EPA has revised its Federal Register citation practice to make electronic document searches easier; (2) in the § 52.170(c) table, the Federal Register citation, which was inadvertently omitted in the original action, is added after the date in the EPA approval date entries for sections 26.501 and 26.602; (3) in the § 52.170(c) table, the EPA approval date entries under the heading “Arkansas Regulation No. 9: Permit Fees”, which previously provided the incorrect approval date of the Federal Register action, are corrected from “ 11/26/86” to “11/12/86”; (4) in the § 52.170(c) table, the parts entitled “Prevention of Significant Deterioration Supplement to the Arkansas Plan of Implementation for Air Pollution Control” and “Regulations for the Control of Volatile Organic Compounds”, which were made obsolete by EPA's approval of Arkansas SIP revisions on October 16, 2000 (65 FR 61103), but which we inadvertently retained in the October 16, 2000, action, are removed; (5) in the § 52.170(e) table, under the heading “EPA Approved Control Measures in the Arkansas SIP”, the entries for “Air Quality Surveillance Network” and “Air Quality Surveillance Data Reporting”, which we neglected to consolidate in our October 23, 1998, action revising the format of 40 CFR part 52 (subpart E) (65 FR 61103), are now consolidated into a single entry titled “Air Quality Surveillance” as the first entry under that heading; and (6) in the § 52.170(e) table, under the heading “EPA Approved Control Measures in the Arkansas SIP”, the entry for “Stack Height Negative Declaration” is replaced with an entry for “Good Engineering Practice Stack Height Regulations” because we incorrectly identified the Negative Declaration as Arkansas' EPA-approved control measure concerning stack height when we applied the IBR revised procedures to Arkansas on October 23, 1998 (63 FR 56824). This CFR update, including all six ministerial corrections to the tables in 40 CFR 52.170(c) and (e), merely reflects previous EPA rulemaking actions; therefore, this update does not affect the substance of those actions nor does it change the rights or obligations of any party.

EPA has determined that today's action falls under sections 553(b)(3)(B) (the “good cause” exemption) and 553(d)(3) of the Administrative Procedure Act (APA). The “good cause” exemption authorizes an agency to dispense with public participation upon finding “good cause” and section 553(d)(3) allows an agency to make an action effective immediately (thereby avoiding the 30-day delayed effective date otherwise provided for in the APA). Under section 553(b)(3)(B) of the APA, an agency may find good cause where procedures are “impracticable, unnecessary, or contrary to the public interest.” Public comment for today's administrative action, which updates a SIP compilation already in effect as a matter of law and updates CFR provisions already in effect as a matter of law, is “unnecessary” and “contrary to the public interest” because the updates merely reflect existing law. Thus we find this constitutes good cause for making the updates final without prior proposal and opportunity for comment. Further, pursuant to APA section 553(d)(3), making today's action immediately effective benefits the public by immediately updating both the SIP compilation and the CFR “Identification of plan” section (which includes updating the description of materials incorporated by reference, correcting Federal Register citations, adding inadvertently omitted table entries, consolidating table entries, correcting table entries, and removing outdated citations).

Statutory and Executive Order Reviews

A. General Requirements

Under Executive Order 12866 (58 FR 51735, October 4, 1993), this administrative action is not a “significant regulatory action” and is therefore not subject to review by the Office of Management and Budget. This action is not subject to Executive Order 13211, “Actions Concerning Regulations That Significantly Affect Energy Supply, Distribution, or Use,” (66 FR 28355, May 22, 2001) because it is not a significant regulatory action under Executive Order 12866. Because the agency has made a “good cause” finding that this action is not subject to notice-and-comment requirements under the Administrative Procedure Act or any other statute as indicated in the SUPPLEMENTARY INFORMATION section above, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This administrative action also does not have a substantial direct effect on one or more Indian tribes, on the relationship between the Federal government and Indian tribes, or on the distribution of power and responsibilities between the Federal government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This administrative action also is not subject to Executive Order 13045 (62 FR 19885, April 23, 1997) because it is not economically significant. This administrative action does not involve technical standards; thus the requirements of section 12(d) of the National Technology Transfer and Advancement Act of 1995 (15 U.S.C. 272 note) do not apply. This administrative action also does not involve special consideration of environmental justice related issues as required by Executive Order 12898 (59 FR 7629, February 16, 1994). In this administrative action, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of this administrative action in accordance with the “Attorney General's Supplemental Guidelines for the Evaluation of Risk and Avoidance of Unanticipated Takings” issued under the Executive Order. This administrative action does not impose an information collection burden under the Paperwork Reduction Act of 1995 (44 U.S.C. 3501 et seq.). EPA's compliance with these Statutes and Executive Orders for the underlying rules is discussed in previous actions taken on the State's rules.

B. Submission to Congress and the Comptroller General

The Congressional Review Act (CRA) (5 U.S.C. 801 et seq.), as added by the Small Business Regulatory Enforcement Fairness Act of 1996, generally provides that before a rule may take effect, the agency promulgating the rule must submit a rule report, which includes a copy of the rule, to each House of the Congress and to the Comptroller General of the United States. Section 808(2) allows the issuing agency to make a rule effective sooner than otherwise provided by the CRA if the agency makes a good cause finding that notice and public procedure is impracticable, unnecessary, or contrary to the public interest. Today's administrative action simply updates and corrects provisions that are already in effect as a matter of law in Federal and federally approved State programs. These announced actions were effective when EPA approved them through previous rulemaking actions. EPA will submit a report containing this action and other required information to the U.S. Senate, the U.S. House of Representatives, and the Comptroller General of the United States prior to publication of this action in the Federal Register. Neither this update to Arkansas's SIP compilation nor this update to the Arkansas “Identification of plan” section in 40 CFR part 52 is a “major rule” as defined by 5 U.S.C. 804(2).

C. Petitions for Judicial Review

EPA has also determined that the provisions of section 307(b)(1) of the Clean Air Act pertaining to petitions for judicial review are not applicable to this action. This action is simply an announcement of prior rulemakings that have already undergone notice and comment rulemaking. Prior EPA rulemaking actions for each individual component of the Arkansas SIP compilation previously afforded interested parties the opportunity to file a petition for judicial review in the United States Court of Appeals for the appropriate circuit within 60 days of such rulemaking action.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: December 27, 2005.
Lawrence E. Starfield,
Acting Regional Administrator, Region 6.

40 CFR part 52 is amended as follows:

PART 52—[AMENDED]

1. The authority citation for part 52 continues to read as follows:

Authority: 42 U.S.C. 7401 et seq.

Subpart E—Arkansas

2. Section 52.170 is amended as follows:

a. By revising paragraph (b).

b. By revising paragraph (c).

c. By revising paragraph (e).

52.170 Identification of plan.

* * * * *

(b) Incorporation by reference. (1) Material listed in paragraphs (c) and (d) of this section with an EPA approval date prior to December 1, 2005, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after December 1, 2005, will be incorporated by reference in the next update to the SIP compilation.

(2) EPA Region 6 certifies that the rules/regulations provided by EPA in the SIP compilation at the addresses in paragraph (b)(3) of this section are an exact duplicate of the officially promulgated State rules/regulations that have been approved as part of the State implementation plan as of December 1, 2005.

(3) Copies of the materials incorporated by reference may be inspected at the Region 6 EPA Office at 1445 Ross Avenue, Suite 700, Dallas, Texas, 75202-2733; the EPA, Air and Radiation Docket and Information Center, Air Docket (6102), 401 M St., SW., Washington, DC 20460; or at the National Archives and Records Administration (NARA). For information on the availability of this material at NARA, call 202-741-6030, or go to: http://www.archives.gov/federal_register/code_of_federal_regulations/ibr_locations.html.

(c) EPA approved regulations.

EPA-Approved Regulations in the Arkansas SIP
State citation | Title/subject | State submittal/effective date | EPA approval date | Explanation
Regulation 19: Regulations of the Arkansas Plan of Implementation for Air Pollution Control
Chapter 1: Title, Intent and Purpose
Section 19.101 | Title | 01/22/99 | 10/16/00 (65 FR 61103)
Section 19.102 | Applicability | 01/22/99 | 10/16/00 (65 FR 61103)
Section 19.103 | Intent and Construction | 01/22/99 | 10/16/00 (65 FR 61103)
Section 19.104 | Severability | 01/22/99 | 10/16/00 (65 FR 61103)
Chapter 2: Definitions
Chapter 2 | Definitions | 01/22/99 | 10/16/00 (65 FR 61103)
Chapter 3: Protection of the NAAQS
Section 19.301 | Purpose | 01/22/99 | 10/16/00 (65 FR 61103)
Section 19.302 | Department Responsibilities | 01/22/99 | 10/16/00 (65 FR 61103)
Section 19.303 | Regulated Sources Responsibilities | 01/22/99 | 10/16/00 (65 FR 61103)
Section 19.304 | Delegated Federal Programs | 01/22/99 | 10/16/00 (65 FR 61103)
Chapter 4: Minor Source Review
Section 19.401 | General Applicability | 01/22/99 | 10/16/00 (65 FR 61103)
Section 19.402 | Approval Criteria | 01/22/99 | 10/16/00 (65 FR 61103)
Section 19.403 | Owner/Operator's Responsibilities | 01/22/99 | 10/16/00 (65 FR 61103)
Section 19.404 | Required Information | 01/22/99 | 10/16/00 (65 FR 61103)
Section 19.405 | Action on Application | 01/22/99 | 10/16/00 (65 FR 61103)
Section 19.406 | Public Participation | 01/22/99 | 10/16/00 (65 FR 61103)
Section 19.407 | Permit Amendments | 01/22/99 | 10/16/00 (65 FR 61103)
Section 19.408 | Exemption from Permitting | 01/22/99 | 10/16/00 (65 FR 61103)
Section 19.409 | Transition | 01/22/99 | 10/16/00 (65 FR 61103)
Section 19.410 | Permit Revocation and Cancellation | 01/22/99 | 10/16/00 (65 FR 61103)
Section 19.411 | General Permits | 01/22/99 | 10/16/00 (65 FR 61103)
Section 19.412 | Dispersion Modeling | 01/22/99 | 10/16/00 (65 FR 61103)
Section 19.413 | Confidentiality | 01/22/99 | 10/16/00 (65 FR 61103)
Chapter 5: General Emission Limitations Applicable to Equipment
Section 19.501 | Purpose | 01/22/99 | 10/16/00 (65 FR 61103)
Section 19.502 | General Regulations | 01/22/99 | 10/16/00 (65 FR 61103)
Section 19.503 | Visible Emission Regulations | 01/22/99 | 10/16/00 (65 FR 61103)
Section 19.504 | Stack Height/Dispersion Regulations | 01/22/99 | 10/16/00 (65 FR 61103)
Section 19.505 | Revised Emission Limitation | 01/22/99 | 10/16/00 (65 FR 61103)
Chapter 6: Upset and Emergency Conditions
Section 19.601 | Upset Conditions | 01/22/99 | 10/16/00 (65 FR 61103)
Section 19.602 | Emergency Conditions | 01/22/99 | 10/16/00 (65 FR 61103)
Chapter 7: Sampling, Monitoring, and Reporting Requirements
Section 19.701 | Purpose | 01/22/99 | 10/16/00 (65 FR 61103)
Section 19.702 | Air Emission Sampling | 01/22/99 | 10/16/00 (65 FR 61103)
Section 19.703 | Continuous Emission Monitoring | 01/22/99 | 10/16/00 (65 FR 61103)
Section 19.704 | Notice of Completion | 01/22/99 | 10/16/00 (65 FR 61103)
Section 19.705 | Recordkeeping and Reporting Requirements | 01/22/99 | 10/16/00 (65 FR 61103)
Section 19.706 | Public Availability of Emissions Data | 01/22/99 | 10/16/00 (65 FR 61103)
Chapter 9: PSD
Section 19.901 | Title | 01/22/99 | 10/16/00 (65 FR 61103)
Section 19.902 | Purposes | 01/22/99 | 10/16/00 (65 FR 61103)
Section 19.903 | Definitions | 01/22/99 | 10/16/00 (65 FR 61103)
Section 19.904 | Adoption of Regulations | 01/22/99 | 10/16/00 (65 FR 61103)
Chapter 10: Regulations for the Control of Volatile Organic Compounds
Section 19.1001 | Title | 01/22/99 | 10/16/00 (65 FR 61103)
Section 19.1002 | Purpose | 01/22/99 | 10/16/00 (65 FR 61103)
Section 19.1003 | Definitions | 01/22/99 | 10/16/00 (65 FR 61103)
Section 19.1004 | General Provisions | 01/22/99 | 10/16/00 (65 FR 61103)
Section 19.1005 | Provisions for Specific Processes | 01/22/99 | 10/16/00 (65 FR 61103)
Section 19.1006 | Severability | 01/22/99 | 10/16/00 (65 FR 61103)
Chapter 11: Major Source Permitting Procedures
Chapter 11 | Major Source Permitting Procedures | 01/22/99 | 10/16/00 (65 FR 61103)
Appendix A: Insignificant Activities List
Appendix A | Insignificant Activities List | 01/22/99 | 10/16/00 (65 FR 61103)
Regulation 26: Regulations of the Arkansas Operating Permit Program
Chapter 3: Requirements for Permit Applicability
Section 26.301 | Requirement for a permit | 08/10/00 | 10/9/01 (66 FR 51312)
Section 26.302 | Sources subject to permitting | 08/10/00 | 10/9/01 (66 FR 51312)
Chapter 4: Applications for Permits
Section 26.401 | Duty to apply | 08/10/00 | 10/9/01 (66 FR 51312)
Section 26.402 | Standard application form and required information | 08/10/00 | 10/9/01 (66 FR 51312)
Section 26.407 | Complete application | 08/10/00 | 10/9/01 (66 FR 51312)
Section 26.409 | Applicants duty to supplement correct application | 08/10/00 | 10/9/01 (66 FR 51312)
Section 26.410 | Certification by responsible official | 08/10/00 | 10/9/01 (66 FR 51312)
Chapter 5: Action on Application
Section 26.501 | Action on part 70 permit applications | 08/10/00 | 10/9/01 (66 FR 51312) | Subsection B Not in SIP.
Section 26.502 | Final action on permit application | 08/10/00 | 10/9/01 (66 FR 51312)
Chapter 6: Permit Review by the Public, Affected States, and EPA
Section 26.601 | Untitled introduction to Chapter 6 | 08/10/00 | 10/9/01 (66 FR 51312)
Section 26.602 | Public participation | 08/10/00 | 10/9/01 (66 FR 51312) | Only Subsection A(1), A(2), A(5) and D in SIP.
Section 26.603 | Transmission of permit information to the Administrator | 08/10/00 | 10/9/01 (66 FR 51312)
Section 26.604 | Review of draft permit by affected States | 08/10/00 | 10/9/01 (66 FR 51312)
Arkansas Regulation No. 9: Permit Fees
Section 1 | Purpose | 12/16/85 | 11/12/86 (51 FR 40975) | Ref 52.200(c)(24).
Section 2 | Short Title | 12/16/85 | 11/12/86 (51 FR 40975) | Ref 52.200(c)(24).
Section 3 | Definitions | 12/16/85 | 11/12/86 (51 FR 40975) | Ref 52.200(c)(24).
Section 4 | Applicability | 12/16/85 | 11/12/86 (51 FR 40975) | Ref 52.200(c)(24).
Section 5 | Maximum Fees | 12/16/85 | 11/12/86 (51 FR 40975) | Ref 52.200(c)(24).
Section 6 | Retroactivity | 12/16/85 | 11/12/86 (51 FR 40975) | Ref 52.200(c)(24).
Section 7 | Permit Fee Payment | 12/16/85 | 11/12/86 (51 FR 40975) | Ref 52.200(c)(24).
Section 8 | Refunds | 12/16/85 | 11/12/86 (51 FR 40975) | Ref 52.200(c)(24).
Section 9 | Solid Waste Fee |  |  | NOT IN SIP.
Section 10 | Fee Schedule | 12/16/85 | 11/12/86 (51 FR 40975) | Ref 52.200(c)(24).
Section 11 | Review of Fees | 12/16/85 | 11/12/86 (51 FR 40975) | Ref 52.200(c)(24).
Section 12 | Severability | 12/16/85 | 11/12/86 (51 FR 40975) | Ref 52.200(c)(24).
Section 13 | Appeals | 12/16/85 | 11/12/86 (51 FR 40975) | Ref 52.200(c)(24).
Section 14 | Effective Date | 12/16/85 | 11/12/86 (51 FR 40975) | Ref 52.200(c)(24).

* * * * *

(e) EPA-approved nonregulatory provisions and quasi-regulatory measures.

EPA-Approved Statutes in the Arkansas SIP
State citation | Title/subject | State submittal/ effective date | EPA approval date | Explanation
Arkansas Water and Air Pollution Control Act—Part I
82.1901 | Title of Act | 01/28/72 | 05/31/72 (37 FR 10841) | Ref 52.200(a) & (b).
82.1902 | Definitions | 01/28/72 | 05/31/72 (37 FR 10841) | Ref 52.200(a) & (b).
82.1903 | Pollution Control Commission | 01/28/72 | 05/31/72 (37 FR 10841) | Ref 52.200(a) & (b).
82.1904 | Powers and Duties of Commission | 01/28/72 | 05/31/72 (37 FR 10841) | Ref 52.200(a) & (b).
82.1905 | Persons Operating Disposal System—Furnishing Information and Permitting Examinations and Surveys | 01/28/72 | 05/31/72 (37 FR 10841) | Ref 52.200(a) & (b).
82.1906 | Hearing Before Commission or Member—Appeal Procedure | 01/28/72 | 05/31/72 (37 FR 10841) | Ref 52.200(a) & (b).
82.1907 | Co-operation with Agency of Another State or United States | 01/28/72 | 05/31/72 (37 FR 10841) | Ref 52.200(a) & (b).
82.1908 | Actions Declared Public Nuisance—Permit to Construct, Make Changes in or Operate Disposal System—Submission of Plans | 01/28/72 | 05/31/72 (37 FR 10841) | Ref 52.200(a) & (b).
82.1909 | Violation of Act a Misdemeanor—Pollution a Nuisance—Abatement | 01/28/72 | 05/31/72 (37 FR 10841) | Ref 52.200(a) & (b).
Arkansas Environmental Permit Fees Act (Act 817 of 1983)
82-1916 thru 82-1921 | Permit Fees Act | 12/16/85 | 11/12/86 (51 FR 40975) | Ref 522.200(c)(24).
Arkansas Water and Air Pollution Control Act—Part II
82-1931 | Air Pollution-State Policy | 01/28/72 | 05/31/72 (37 FR 10841) | Ref 52.200(a) & (b).
82-1932 | Purpose of Act | 01/28/72 | 05/31/72 (37 FR 10841) | Ref 52.200(a) & (b).
82-1933 | Definitions | 01/28/72 | 05/31/72 (37 FR 10841) | Ref 52.200(a) & (b).
82-1934 | Exemptions | 01/28/72 | 05/31/72 (37 FR 10841) | Ref 52.200(a) & (b).
82-1935 | Powers of Commission | 01/28/72 | 05/31/72 (37 FR 10841) | Ref 52.200(a) & (b).
82-1936 | Factors in Exercise of Commission Powers | 01/28/72 | 05/31/72 (37 FR 10841) | Ref 52.200(a) & (b).
82-1937 | Industrial Secrets Confidential—Revealing a Misdemeanor | 11/25/85 | 08/04/86 (51 FR 27840) | Ref 52.200(c)(23).
82-1938 | Unlawful Acts | 01/28/72 | 05/31/72 (37 FR 10841) | Ref 52.200(a) & (b).
82-1939 | Variance from Regulations | 01/28/72 | 05/31/72 (37 FR 10841) | Ref 52.200(a) & (b).
82-1940 | Application of Water Pollution Provisions | 01/28/72 | 05/31/72 (37 FR 10841) | Ref 52.200(a) & (b).
82-1941 | Political Subdivision Forbidden to Legislate on Air Pollution | 01/28/72 | 05/31/72 (37 FR 10841) | Ref 52.200(a) & (b).
82-1942 | Radiation Control Law Not Amended or Repealed—No Authority to Commission Over Employer-Employee Relationships | 01/28/72 | 05/31/72 (37 FR 10841) | Ref 52.200(a) & (b).
82-1943 | Private Rights Unchanged | 01/28/72 | 05/31/72 (37 FR 10841) | Ref 52.200(a) & (b).
Small Business Assistance Program Act (Act 251 of 1993)
Act 251 | SBAP Act | 02/26/93 | 03/08/95 (60 FR 12691) | Ref 52.200(c)(31).

EPA-Approved Control Measures in the Arkansas SIP
Control measures | Applicable geographic or nonattainment area | State submittal/ effective date | EPA approval date | Explanation
Air Quality Surveillance | Statewide | 04/24/80 | 08/06/81 (46 FR 40005) | Ref 52.200(c)(6) & (20).
Lead SIP | Statewide | 12/10/79 | 04/16/82 (47 FR 16328) | Ref 52.200(c)(17).
Protection of Visibility in Mandatory Class I Federal Areas | Statewide | 06/12/85 | 02/10/86 (51 FR 4910) | Ref 52.200(c)(22).
Part II of the Visibility Protection Plan | Statewide | 10/09/87 | 07/21/88 (53 FR 27514) | Ref 52.200(c)(25).
Good Engineering Practice Stack Height Regulations | Statewide | 06/1/87 | 02/23/89 (54 FR 7764) | Ref 52.200(c)(26).
Small Business Stationary Source Technical and Environmental Compliance Assistance Program | Statewide | 11/06/92 | 03/08/95 (60 FR 12691) | Ref 52.200(c)(31).

[FR Doc. 06-2481 Filed 3-15-06; 8:45 am]

BILLING CODE 6560-50-P